DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Procedure to Initiate an Investigation under the Trade Expansion Act of 1962, as amended.

Agency Form Number: n/a.

OMB Approval Number: 0694-0120.

Type of Request: Revision.

Burden: 3,000 hours.

Average Time Per Response: 5,000 hours.

Number of Respondents: .6 (6 respondents in 10 years).

Needs and Uses: The information is used by the Secretary of Commerce to conduct an investigation, and to present the Department's findings to the President within 270 days as required by the statute. The statute also requires the Secretary of Commerce to consult with the Secretary of Defense regarding methodology and policy questions that arise during the conduct of an investigation.

During the course of an investigation, Commerce may provide the public with an opportunity to comment and present information and advice relevant to the investigation, including holding public hearings, through a notice in the Federal Register. Additional information is gathered from such sources as: surveys of producers, importers, and end-users; on-the-record meetings with interested parties; site visits; and a review of public literature.

Affected Public: Individuals, businesses or other for-profit institutions.

Respondent's Obligation: Voluntary.

OMB Desk Officer: David Rostker.

Copies of the above information collection proposal can be obtained by calling or writing Diana Hynek, DOC Paperwork Clearance Officer, Office of the Chief Information Officer, (202) 482-0266, Department of Commerce, Room 6625; 14th and Constitution Avenue, NW., Washington, DC 20230.

Written comments and recommendations for the proposed information collection should be sent within 30 days of publication of this notice to David Rostker, OMB Desk Officer, Room 10202, New Executive Office Building, Washington, DC 20230.

Dated: November 15, 2002.
Madeleine Clayton,
Management Analyst, Office of the Chief Information Officer.

[FR Doc. 02-29529 Filed 11-20-02; 8:45 am]

BILLING CODE 3510-JT-P